DEPARTMENT OF THE INTERIOR

Fish and Wildlife Service

50 CFR Part 17

[Docket No. FWS-HQ-ES-2015-0007; 4500030113]

RIN 1018-BA73

Endangered and Threatened Wildlife and Plants; Taxonomy of the Hawaiian Monk Seal

AGENCY: Fish and Wildlife Service, Interior.

ACTION: Final rule.

SUMMARY: We, the U.S. Fish and Wildlife Service (Service), are amending the List of Endangered and Threatened Wildlife to reflect the scientifically accepted taxonomy and nomenclature of the Hawaiian monk seal (Neomonachus schauinslandi (=Monachus schauinslandi)). This amendment is based on a previously published determination by the National Marine Fisheries Service (NMFS) of the National Oceanic and Atmospheric Administration, Department of Commerce, which has jurisdiction for this species.

DATES: This rule is effective March 10, 2015.

FOR FURTHER INFORMATION CONTACT: Jean Higgins, NMFS, Pacific Islands Regional Office, (808) 725-5151; or Marta Nammack, NMFS, Office of Protected Resources, (301) 427-8469.

SUPPLEMENTARY INFORMATION: In accordance with the Endangered Species Act of 1973, as amended (16 U.S.C. 1531 et seq.), and Reorganization Plan No. 4 of 1970 (35 FR 15627; October 6, 1970), NMFS has jurisdiction over the Hawaiian monk seal.

On November 17, 2014, NMFS published a direct final rule (79 FR 68371) to announce the revised taxonomy of the Hawaiian monk seal. Because NMFS did not receive any adverse comments during the first 30 days of the direct final rule's comment period, that direct final rule's effective date is January 16, 2015. Please refer to that rule for information on the taxonomy of the Hawaiian monk seal.

While NMFS has jurisdiction over the Hawaiian monk seal, we are responsible for updating the List of Endangered and Threatened Wildlife (List) in title 50 of the Code of Federal Regulations (CFR) at 50 CFR 17.11(h). This final rule is an administrative action to adopt the change already published by NMFS. This action ensures that the List shows the Hawaiian monk seal's most recently accepted scientific name in accordance with 50 CFR 17.11(b).

Administrative Procedure Act

Because NMFS provided a public comment period on the direct final rule to update the taxonomy and nomenclature of the Hawaiian monk seal, and because this action of the Service to amend the List in accordance with the determination by NMFS is nondiscretionary, the Service finds good cause that the notice and public comment procedures of 5 U.S.C. 553(b) are unnecessary for this action. We also find good cause under 5 U.S.C. 553(d)(3) to make this rule effective immediately. This rule is an administrative action to reflect the scientifically accepted taxonomy and nomenclature of the Hawaiian monk seal in the List of Endangered and Threatened Wildlife at 50 CFR 17.11(h). The public would not be served by delaying the effective date of this rulemaking action.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 1531-1544; 4201-4245, unless otherwise noted.

2. Amend § 17.11(h) by revising the entry for “Seal, Hawaiian monk” under MAMMALS in the List of Endangered and Threatened Wildlife to read as follows:

§ 17.11 Endangered and threatened wildlife.

* * * * *

(h) * * *

Species: Common name | Species: Scientific name | Historic range | Vertebrate population where endangered or threatened | Status | When listed | Critical habitat | Special rules
Mammals
* * * * * * *
Seal, Hawaiian monk | Neomonachus schauinslandi (=Monachus schauinslandi) | U.S.A. (HI) | Entire | E | 18 | 226.201 | NA
* * * * * * *

* * * * *

Dated: February 25, 2015.
Stephen Guertin,
Acting Director, U.S. Fish and Wildlife Service.

[FR Doc. 2015-05330 Filed 3-9-15; 8:45 am]

BILLING CODE 4310-55-P